DEPARTMENT OF TRANSPORTATION

Federal Highway Administration

[Docket No. FHWA-2025-0400]

Agency Information Collection Activities: Request for Comments for a New Information Collection; Correction

AGENCY: Federal Highway Administration (FHWA), Department of Transportation (DOT).

ACTION: 30-Day notice; correction.

SUMMARY: On December 1, 2025, the FHWA published a notice with an incorrect docket identifier. This correction informs the public of the correct docket identifier.

DATES: This correction is effective on December 5, 2025.

FOR FURTHER INFORMATION CONTACT: Eva Birk, eva.birk@dot.gov, Office of Natural Environment, Federal Highway Administration, Department of Transportation, 1200 New Jersey Ave. SE, Washington, DC 20590. Office hours are from 7 a.m. to 4 p.m., Monday through Friday, except Federal holidays.

SUPPLEMENTARY INFORMATION: The FHWA published a notice on December 1, 2025 (90 FR 55233). This docket identifier previous published as “FHWA-2024-0400” has been corrected to the docket identifier above, “FHWA-2025-0400”.

Issued On: December 2, 2025.
Jazmyne Lewis,
Information Collection Officer.

[FR Doc. 2025-21961 Filed 12-3-25; 8:45 am]

BILLING CODE 4910-22-P